DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than July 8, 2016.

Interested persons are invited to submit written comments regarding the subject matter of the investigations to the Director, Office of Trade Adjustment Assistance, at the address shown below, not later than July 8, 2016.

The petitions filed in this case are available for inspection at the Office of the Director, Office of Trade Adjustment Assistance, Employment and Training Administration, U.S. Department of Labor, Room N-5428, 200 Constitution Avenue NW., Washington, DC 20210.

Signed at Washington, DC, this 7th day of June 2016.
Jessica R. Webster,
Certifying Officer, Office of Trade Adjustment Assistance.

Appendix
[46 TAA petitions instituted between 5/23/16 and 6/3/16]
TA-W No. | Subject firm (petitioners) | Location | Date of institution | Date of petition
91832 | Kennametal—Office in home (State/ One-Stop) | Lindon, UT | 05/23/16 | 05/19/16
91833 | EMC Corporation (Workers) | Hopkinton, MA | 05/23/16 | 04/19/16
91834 | IBM (State/One-Stop) | Boulder and Denver, CO | 05/23/16 | 05/20/16
91835 | Xcel Energy Services Inc. (State/One-Stop) | Denver, CO | 05/23/16 | 05/20/16
91836 | Gates Corporation (Company) | Elizabethtown, KY | 05/23/16 | 05/20/16
91837 | ConocoPhillips (State/One-Stop) | Bartlesville, OK | 05/24/16 | 05/23/16
91838 | Crawford & Company (Company) | Sunrise, FL | 05/24/16 | 05/23/16
91839 | Crawford & Company (Company) | Lake Zurich, IL | 05/25/16 | 05/25/16
91840 | Crawford & Company (Company) | Atlanta, GA | 05/25/16 | 05/25/16
91841 | Hancock Fabric (Workers) | Baldwyn, MS | 05/25/16 | 05/20/16
91842 | Hewlett Packard Enterprise Services (State/One-Stop) | Jersey City, NJ | 05/25/16 | 05/24/16
91843 | Magellan Aerospace d/b/a Ambel Precision Manufacturing (State/One-Stop) | Bethel, CT | 05/25/16 | 05/24/16
91844 | MediGain (State/One-Stop) | Upper Saddle River, NJ | 05/25/16 | 05/24/16
91845 | Olympic Panel Products LLC (Union) | Shelton, WA | 05/25/16 | 05/24/16
91846 | Sykes Enterprises (Workers) | Langhorne, PA | 05/25/16 | 05/24/16
91847 | Teledyne Blueview (State/One-Stop) | Bothell, WA | 05/25/16 | 05/23/16
91848 | United States Steel Corporation (Workers) | Pittsburgh, PA | 05/25/16 | 05/24/16
91849 | Vallourec Drilling Products USA, Inc. (Company) | Houston, TX | 05/25/16 | 05/24/16
91850 | Big Sandy Woodyard (State/One-Stop) | Camden, Dover, Bethel Springs, TN & Wickliffe, KY | 05/25/16 | 05/24/16
91851 | ZF TRW (Union) | Lafayette, IN | 05/25/16 | 05/25/16
91852 | Howden North America Inc. (Workers) | Akron, OH | 05/26/16 | 05/24/16
91853 | Yellow Pages Group (Workers) | Blue Bell, PA | 05/26/16 | 05/16/16
91854 | Polartec LLC (Union) | Lawrence, MA | 05/26/16 | 05/25/16
91855 | Ch2m (Workers) | Englewood, CO | 05/26/16 | 05/12/16
91856 | Oklahoma Department of Human Services (Workers) | Lawton, OK | 05/26/16 | 05/25/16
91857 | Laird Technologies (State/One-Stop) | Schaumburg, IL | 05/26/16 | 05/25/16
91858 | John Crane (State/One-Stop) | Morton Grove, IL | 05/26/16 | 05/25/16
91859 | MSE Technologies LLC (Company) | Van Nuys, CA | 05/26/16 | 05/25/16
91860 | 3M Cuno (State/One-Stop) | Meriden, CT | 05/26/16 | 05/26/16
91861 | Donald L Shirley Lumber Co. Inc. (Company) | New Bethlehem, PA | 05/26/16 | 05/25/16
91862 | Union Pacific Railroad (Union) | North Platte, NE | 05/27/16 | 05/26/16
91863 | Remington Outdoor Company (Workers) | Hickory, KY | 05/27/16 | 05/26/16
91864 | Quantum Medical Imaging (Subsidiary of Carestream) (Company) | Ronkonkoma, NY | 05/27/16 | 05/26/16
91865 | DLA, Inc. (Company) | Doral, FL | 05/27/16 | 05/26/16
91866 | Chandler Industries (State/One-Stop) | Littleton, CO | 05/31/16 | 05/27/16
91867 | Agilent Technologies, Inc. (State/One-Stop) | Danbury, CT | 05/31/16 | 05/31/16
91868 | Hewlett Packard, Inc. (State/One-Stop) | Vancouver, WA | 05/31/16 | 05/26/16
91869 | MechoShade Systems (Company) | Phoenix, AZ | 06/01/16 | 05/31/16
91870 | IBM Global Services (State/One-Stop) | Omaha, NE | 06/01/16 | 05/31/16
91871 | Sun Dental Labs, LLC (Workers) | St. Petersburg, FL | 06/02/16 | 06/01/16
91872 | Liberty Mutual Insurance (Workers) | New Castle, PA | 06/02/16 | 06/01/16
91873 | Applegate Livestock Equipment Inc. (Workers) | Union City, IN | 06/02/16 | 06/01/16
91874 | United Healthcare (State/One-Stop) | Richardson, TX | 06/03/16 | 06/01/16
91875 | Manitowoc Company (Union) | Manitowoc, WI | 06/03/16 | 06/02/16
91876 | Cleaver Brooks (State/One-Stop) | Lincoln, NE | 06/03/16 | 06/02/16
91877 | IAC Acoustics, formerly GT Exhaust (State/One-Stop) | Lincoln, NE | 06/03/16 | 06/02/16

[FR Doc. 2016-15253 Filed 6-27-16; 8:45 am]

BILLING CODE 4510-FN-P